DEPARTMENT OF TRANSPORTATION

Federal Railroad Administration

[Docket No. FRA-2021-0006-N-2]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before May 14, 2021.

ADDRESSES: Submit comments and recommendations for the proposed ICR to Ms. Hodan Wells, Information Collection Clearance Officer at email: hodan.wells@dot.gov or telephone: (202) 493-0440. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Report of Railroad Trespasser Form.

OMB Control Number: 2130-NEW.

Abstract: Trespasser deaths on railroad rights-of-way and other railroad property are the leading cause of fatalities attributable to railroad operations in the United States. To address this serious issue, the railroad industry, governments (Federal, State, and local), and other interested parties must know more about the individuals who trespass. With such knowledge, specific educational programs, materials, and messages regarding the hazards and consequences of trespassing on railroad property can be developed and effectively distributed. Due to the lack of available root cause data, FRA proposes to collect data from law enforcement agencies to develop general profiles of the root causes of trespassing. This will allow FRA and other interested parties, such as Operation Lifesaver, to target audiences with appropriate education and enforcement campaigns to reduce the annual number of injuries and fatalities.

Completion and submission of form FRA F 6180.178 will be required for law enforcement agency grantees, as a condition of FRA's Railroad Trespassing Enforcement Grant. The grantees will complete the form for each trespasser incident in their jurisdiction, describing the trespassers' race/ethnicity, gender and age to the best of their abilities. For law enforcement agencies not receiving FRA's Railroad Trespassing Enforcement grants, completion and submission of this form is voluntary.

For convenience to the respondents, FRA proposes an electronic option where the respondents can respond via a web-based form. The web-based form also will facilitate FRA's ability to maintain the data collected in a more useful and uniform manner, as the dropdown boxes will assist FRA in receiving more standardized responses.

Type of Request: Approval of a new collection of information.

Affected Public: Public authorities.

Form(s): FRA F 6180.178.

Respondent Universe: Law enforcement agencies.

Frequency of Submission: Monthly.

Reporting Burden:

Form | Respondent universe | Total annual responses | Average time per response (minutes) | Total annual burden hours (hours) | Total cost equivalent
Report of Railroad Trespasser Form (New Form FRA F 6180.178) | Law enforcement agencies, grantees | 2,800 forms | 10 | 467 | $22,229
| Law enforcement agencies, non-grantees | 500 forms | 10 | 83 | 3,951
Total ¹ | Law enforcement agencies ² | 3,300 responses | N/A | 550 | 26,180
¹ Totals may not add due to rounding.
² The hourly wage rate to calculate the dollar cost equivalent for law enforcement employees amounts to $47.60 per hour (an hourly wage rate of $27.40 plus an hourly benefit of $20.20). FRA obtained this information from the Department of Labor, Bureau of Labor Statistics (BLS), Occupational Employment Statistics (OES) 11-3011, classified within NAICS 999200, State Government—excluding schools and hospitals. See https://www.bls.gov/oes/current/naics4_999200.htm.

Total Estimated Annual Responses: 3,300.

Total Estimated Annual Burden: 550 hours.

Total Estimated Annual Burden Hour Dollar Cost Equivalent: $26,180.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Acting Chief Counsel.

[FR Doc. 2021-05309 Filed 3-12-21; 8:45 am]

BILLING CODE 4910-06-P